DEPARTMENT OF ENERGY

Federal Energy Regulatory Commission

Combined Notice of Filings—2

Take notice that the Commission has received the following Natural Gas Pipeline Rate and Refund Report filings:

Filings Instituting Proceedings

Docket Numbers: PR15-37-001 and PR15-37-002.

Applicants: Bay Gas Storage Company, Ltd.

Description: Submits tariff filing per 284.123(b), (e), (g): Amendment to Petition under NGPA Section 311 to be effective 6/8/2015; Filing Type: 1270.

Filed Dates: 10/2/15; 10/5/15.

Accession Numbers: 20151002-5097; 20151005-5226.

Comments Due: 5 p.m. ET 10/26/15.

284.123(g) Protests Due: 5 p.m. ET 10/26/15.

Docket Numbers: RP16-1-000.

Applicants: Texas Gas Transmission, LLC.

Description: Section 4(d) Rate Filing: 2015 Fuel Tracker Filing to be effective 11/1/2015.

Filed Date: 10/1/15.

Accession Number: 20151001-5077.

Comments Due: 5 p.m. ET 10/13/15.

Docket Numbers: RP16-2-000.

Applicants: Panhandle Eastern Pipe Line Company, LP.

Description: Section 4(d) Rate Filing: Fuel Filing on 10-1-15 to be effective 11/1/2015.

Filed Date: 10/1/15.

Accession Number: 20151001-5086.

Comments Due: 5 p.m. ET 10/13/15.

Docket Numbers: RP16-3-000.

Applicants: Trunkline Gas Company, LLC.

Description: Section 4(d) Rate Filing: Fuel Filing on 10-1-15 to be effective 11/1/2015.

Filed Date: 10/1/15.

Accession Number: 20151001-5087.

Comments Due: 5 p.m. ET 10/13/15.

Docket Numbers: RP16-4-000.

Applicants: Southwest Gas Storage Company.

Description: Section 4(d) Rate Filing: Fuel Filing on 10-1-15 to be effective 11/1/2015.

Filed Date: 10/1/15.

Accession Number: 20151001-5088.

Comments Due: 5 p.m. ET 10/13/15.

Docket Numbers: RP16-5-000.

Applicants: Northern Natural Gas Company.

Description: Section 4(d) Rate Filing: 20151001 Remove Non-Conforming Service Agreements to be effective 11/1/2015.

Filed Date: 10/1/15.

Accession Number: 20151001-5095.

Comments Due: 5 p.m. ET 10/13/15.

Docket Numbers: RP16-6-000.

Applicants: WBI Energy Transmission, Inc.

Description: Annual Report of Penalty Revenue Credits of WBI Energy Transmission, Inc.

Filed Date: 10/1/15.

Accession Number: 20151001-5101.

Comments Due: 5 p.m. ET 10/13/15.

Docket Numbers: RP16-7-000.

Applicants: Gulf South Pipeline Company, LP.

Description: Section 4(d) Rate Filing: Amendments to Neg Rate Agmts (FPL 40097-15, 41618-14, 41619-9) to be effective 10/1/2015.

Filed Date: 10/1/15.

Accession Number: 20151001-5112.

Comments Due: 5 p.m. ET 10/13/15.

Docket Numbers: RP16-8-000.

Applicants: Gulf South Pipeline Company, LP.

Description: Section 4(d) Rate Filing: Neg Rate Agmt Filing (Noble 45015) to be effective 10/1/2015.

Filed Date: 10/1/15.

Accession Number: 20151001-5118.

Comments Due: 5 p.m. ET 10/13/15.

Docket Numbers: RP16-9-000.

Applicants: Gulf South Pipeline Company, LP.

Description: Section 4(d) Rate Filing: NC Agmts Filing (Foley 45321 and Brewton 45315) to be effective 9/30/2015.

Filed Date: 10/1/15.

Accession Number: 20151001-5122.

Comments Due: 5 p.m. ET 10/13/15.

Docket Numbers: RP16-10-000.

Applicants: Gulf South Pipeline Company, LP.

Description: Section 4(d) Rate Filing: Amendment to Neg Rate Agmt (Chevron 41610-9) to be effective 10/1/2015.

Filed Date: 10/1/15.

Accession Number: 20151001-5128.

Comments Due: 5 p.m. ET 10/13/15.

Docket Numbers: RP16-11-000.

Applicants: Gulf South Pipeline Company, LP.

Description: Section 4(d) Rate Filing: Amendment to Neg Rate Agmt (Sequent 34693-37) to be effective 10/1/2015.

Filed Date: 10/1/15.

Accession Number: 20151001-5129.

Comments Due: 5 p.m. ET 10/13/15.

Docket Numbers: RP16-12-000.

Applicants: Guardian Pipeline, L.L.C.

Description: Section 4(d) Rate Filing: EPCR Semi-Annual Adjustment—Fall 2015 to be effective 11/1/2015.

Filed Date: 10/1/15.

Accession Number: 20151001-5133.

Comments Due: 5 p.m. ET 10/13/15.

Docket Numbers: RP16-13-000.

Applicants: Guardian Pipeline, L.L.C.

Description: Section 4(d) Rate Filing: Transporter's Use Gas Annual Filing—Fall 2015 to be effective 11/1/2015.

Filed Date: 10/1/15.

Accession Number: 20151001-5143.

Comments Due: 5 p.m. ET 10/13/15.

Docket Numbers: RP16-14-000.

Applicants: Midwestern Gas Transmission Company.

Description: Section 4(d) Rate Filing: Update Non-Conforming and Negotiated Rate Agreements to be effective 11/1/2015.

Filed Date: 10/1/15.

Accession Number: 20151001-5152.

Comments Due: 5 p.m. ET 10/13/15.

Docket Numbers: RP16-15-000.

Applicants: Viking Gas Transmission Company.

Description: Compliance filing Semi-Annual FLRP—Fall 2015.

Filed Date: 10/1/15.

Accession Number: 20151001-5176.

Comments Due: 5 p.m. ET 10/13/15.

Docket Numbers: RP16-16-000.

Applicants: Enable Gas Transmission, LLC.

Description: Annual Report of Total Penalty Revenue Credits of Enable Gas Transmission, LLC.

Filed Date: 10/1/15.

Accession Number: 20151001-5245.

Comments Due: 5 p.m. ET 10/13/15.

Docket Numbers: RP16-17-000.

Applicants: Enable Gas Transmission, LLC.

Description: Annual Report of Linked Firm Service Penalty Revenue Credits of Enable Gas Transmission, LLC.

Filed Date: 10/1/15.

Accession Number: 20151001-5249.

Comments Due: 5 p.m. ET 10/13/15.

Docket Numbers: RP16-18-000.

Applicants: Texas Eastern Transmission, LP.

Description: Section 4(d) Rate Filing: Multiple Shipper Option Agreement for FT-1 Customers to be effective 11/15/2015.

Filed Date: 10/1/15.

Accession Number: 20151001-5259.

Comments Due: 5 p.m. ET 10/13/15.

Docket Numbers: RP16-19-000.

Applicants: Dominion Carolina Gas Transmission, LLC.

Description: Section 4(d) Rate Filing: FRQ-TDA Filing—2015 to be effective 11/1/2015.

Filed Date: 10/1/15.

Accession Number: 20151001-5294.

Comments Due: 5 p.m. ET 10/13/15.

Docket Numbers: RP16-20-000.

Applicants: Golden Pass Pipeline LLC.

Description: Section 4(d) Rate Filing: 2015 Gas Tariff Clean up to be effective 11/2/2015.

Filed Date: 10/1/15.

Accession Number: 20151001-5333.

Comments Due: 5 p.m. ET 10/13/15.

Docket Numbers: RP16-21-000.

Applicants: Northern Natural Gas Company.

Description: Section 4(d) Rate Filing: 20151001 Negotiated Rates to be effective 11/1/2015.

Filed Date: 10/1/15.

Accession Number: 20151001-5336.

Comments Due: 5 p.m. ET 10/13/15.

Docket Numbers: RP16-22-000.

Applicants: Transcontinental Gas Pipe Line Company,

Description: Section 4(d) Rate Filing: Revisions to Operational Impact Areas to be effective 11/1/2015.

Filed Date: 10/1/15.

Accession Number: 20151001-5339.

Comments Due: 5 p.m. ET 10/13/15.

Docket Numbers: RP16-23-000.

Applicants: Equitrans, L.P.

Description: Section 4(d) Rate Filing: Negotiated Capacity Release Agreements- 10/01/2015 to be effective 10/1/2015.

Filed Date: 10/1/15.

Accession Number: 20151001-5340.

Comments Due: 5 p.m. ET 10/13/15.

Docket Numbers: RP16-24-000.

Applicants: Equitrans, L.P.

Description: Section 4(d) Rate Filing: Scheduling of Services- Post Cycle Adjustments to be effective 11/1/2015.

Filed Date: 10/1/15.

Accession Number: 20151001-5352.

Comments Due: 5 p.m. ET 10/13/15.

Docket Numbers: RP16-25-000.

Applicants: Columbia Gulf Transmission, LLC.

Description: Section 4(d) Rate Filing: Negotiated Rate Service Agmt—Texla 156198 to be effective 10/1/2015.

Filed Date: 10/1/15.

Accession Number: 20151001-5386.

Comments Due: 5 p.m. ET 10/13/15.

Docket Numbers: RP16-26-000.

Applicants: Columbia Gas Transmission, LLC.

Description: Section 4(d) Rate Filing: Negotiated & Non-Conforming Service Agmt—Broad Run Connector to be effective 11/1/2015.

Filed Date: 10/1/15.

Accession Number: 20151001-5391.

Comments Due: 5 p.m. ET 10/13/15.

Docket Numbers: RP16-27-000.

Applicants: Equitrans, L.P.

Description: Section 4(d) Rate Filing: Remaining Storage Inventory Balances to be effective 11/1/2015.

Filed Date: 10/1/15.

Accession Number: 20151001-5409.

Comments Due: 5 p.m. ET 10/13/15.

Docket Numbers: RP16-28-000.

Applicants: Equitrans, L.P.

Description: Compliance filing Notice Regarding Non-Jurisdictional Gathering Facilities.

Filed Date: 10/5/15.

Accession Number: 20151005-5134.

Comments Due: 5 p.m. ET 10/19/15.

Docket Numbers: RP16-29-000.

Applicants: DBM Pipeline, LLC.

Description: Section 4(d) Rate Filing: Summary of Negotiated Rate Agreements to be effective 10/1/2015.

Filed Date: 10/5/15.

Accession Number: 20151005-5136.

Comments Due: 5 p.m. ET 10/19/15.

Docket Numbers: RP16-30-000.

Applicants: Ozark Gas Transmission, L.L.C.

Description: Section 4(d) Rate Filing: BP Energy Neg Rate eff 5-1-2018 to be effective 5/1/2018.

Filed Date: 10/5/15.

Accession Number: 20151005-5144.

Comments Due: 5 p.m. ET 10/19/15.

Docket Numbers: RP16-31-000.

Applicants: Natural Gas Pipeline Company of America.

Description: Section 4(d) Rate Filing: Constellation Energy Negotiated Rate to be effective 11/1/2015.

Filed Date: 10/5/15.

Accession Number: 20151005-5252.

Comments Due: 5 p.m. ET 10/19/15.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

Filings in Existing Proceedings

Docket Numbers: RP15-1204-001.

Applicants: DBM Pipeline, LLC.

Description: Compliance filing Compliance Filing to be effective 10/1/2015.

Filed Date: 10/1/15.

Accession Number: 20151001-5089.

Comments Due: 5 p.m. ET 10/13/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 6, 2015.
Nathaniel J. Davis, Sr.,
Deputy Secretary.

[FR Doc. 2015-26114 Filed 10-13-15; 8:45 am]

BILLING CODE 6717-01-P